DEPARTMENT OF HEALTH AND HUMAN SERVICES

Centers for Disease Control and Prevention

[60Day-13-0255]

Agency Information Collection Activities; Proposals, Submissions, and Approvals

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Leroy Richardson, at 1600 Clifton Road, MS D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Resources and Services Database of the CDC National Prevention Information Network (NPIN) (OMB No. 0920-0255 exp. 1/31/2014)— Extension—National Center for HIV/AIDS, Viral Hepatitis, Sexually Transmitted Diseases, and Tuberculosis Prevention (NCHHSTP), Centers for Disease Control and Prevention (CDC).

Background and Brief Description

NCHHSTP has the primary responsibility within the CDC and the U.S. Public Health Service for the prevention and control of HIV infection, viral hepatitis, sexually transmitted diseases (STDs), and tuberculosis (TB), as well as for community-based HIV prevention activities, syphilis, and TB elimination programs. NPIN serves as the U.S. reference, referral, and distribution service for information on HIV/AIDS, viral hepatitis, STDs, and TB, supporting NCHHSTP's mission to link Americans to prevention, education, and care services. NPIN is a critical member of the network of government agencies, community organizations, businesses, health professionals, educators, and human services providers that educate the American public about the grave threat to public health posed by HIV/AIDS, viral hepatitis, STDs, and TB, and provides services for persons infected with human immunodeficiency virus (HIV).

The NPIN Resources and Services Database contains entries on approximately 9,000 organizations and is the most comprehensive listing of HIV/AIDS, viral hepatitis, STD, and TB resources and services available throughout the country. The American public can also access the NPIN Resources and Services database through the NPIN Web site. More than 56 million hits by the public to the Web site are recorded annually.

To accomplish CDC's goal of continuing efforts to maintain an up-to-date, comprehensive database, NPIN plans each year to add up to 500 newly identified organizations and to verify those organizations currently described in the NPIN Resources and Services Database each year. Organizations with access to the Internet will be given the option to complete and submit an electronic version of the questionnaire by visiting the NPIN Web site. The breakdown of the total annualized burden hours by survey instrument is as follows:

Initial Questionnaire Telephone Script—600 respondents with one response each (120 Registered Nurses—20 minutes; 20 Social and Community Service Managers—10 minutes; 20 Health Educators—13 minutes; and 120 Social and Human Service Assistants—15 minutes), for a total of 152 burden hours

Telephone Verification—7,200 respondents with one response each (1,200 Registered Nurses, 600 Social and Community Service Managers, and 600 Health Educators—10 minutes; and 4,800 Social and Human Services Assistants—9 minutes) for a total of 1,120 burden hours

Email Verification—3,600 respondents with one response each (600 Registered Nurses, 300 Health Educators, and 2,400 Social and Human Services Assistants—10 minutes); and 300 Social and Community Service Managers—12 minutes) for a total of 610 burden hours. This request is for 3-years. There are no costs to respondents other than their time.

Estimated Annualized Burden Hours
Form | Respondents | Number of respondents | Number of responses per respondent | Average burden per response (in hours) | Total burden (in hours)
Initial Questionnaire Telephone Script | Registered nurses | 100 | 1 | 20/60 | 33
| Social and community service managers | 50 | 1 | 10/60 | 8
| Health educators | 50 | 1 | 13/60 | 11
| Social and human service assistants | 400 | 1 | 15/60 | 100
Telephone Verification | Registered nurses, Social and community service managers, and Health educators | 2,400 | 1 | 10/60 | 400
| Social and human service assistants | 4,800 | 1 | 9/60 | 720
Email Verification | Registered nurses, Health educators, and Social and human service assistants | 3,300 | 1 | 10/60 | 550
| Social and community service managers | 300 | 1 | 12/60 | 60
TOTAL |  |  |  |  | 1,882

Leroy A. Richardson,
Chief, Information Collection Review Office, Office of Scientific Integrity, Office of the Associate Director for Science, Office of the Director, Centers for Disease Control and Prevention.

[FR Doc. 2013-16106 Filed 7-3-13; 8:45 am]

BILLING CODE 4163-18-P